FEDERAL DEPOSIT INSURANCE CORPORATION

Notice of Open Meeting of the FDIC Advisory Committee on Economic Inclusion; Correction

AGENCY: Federal Deposit Insurance Corporation.

ACTION: Notice; correction.

SUMMARY: The FDIC published a document in the Federal Register of September 29, 2023, concerning a meeting of the FDIC Advisory Committee on Economic Inclusion. The document contained incorrect dates.

FOR FURTHER INFORMATION CONTACT: Debra A. Decker, Committee Management Officer of the FDIC, 202-898-8748.

SUPPLEMENTARY INFORMATION:

Correction

In the Federal Register of September 29, 2023, 88 FR 67289, in FR Doc. 2023-21434, on Page 67289, correct the DATES caption to read:

DATES: Thursday, November 2, 2023, from 9:00 a.m. to 4:00 p.m.

Federal Deposit Insurance Corporation.
Dated at Washington, DC, on October 3, 2023.
James P. Sheesley,
Assistant Executive Secretary.

[FR Doc. 2023-22355 Filed 10-6-23; 8:45 am]

BILLING CODE 6714-01-P